DEPARTMENT OF COMMERCE

National Oceanic and Atmospheric Administration

50 CFR Part 660

[Docket No. 060824226-6322-02]

RIN 0648-AW58

Magnuson-Stevens Act Provisions; Fisheries Off West Coast States; Pacific Coast Groundfish Fishery; Biennial Specifications and Management Measures; Inseason Adjustments

AGENCY: National Marine Fisheries Service (NMFS), National Oceanic and Atmospheric Administration (NOAA), Commerce.

ACTION: Final rule; inseason adjustments to biennial groundfish management measures; request for comments.

SUMMARY: This final rule announces inseason changes to management measures in the commercial and recreational Pacific Coast groundfish fisheries. These actions, which are authorized by the Pacific Coast Groundfish Fishery Management Plan (FMP), are intended to allow fisheries to access more abundant groundfish stocks while protecting overfished and depleted stocks.

DATES: Effective 0001 hours (local time) May 1, 2008. Comments on this final rule must be received no later than 5 p.m., local time on May 19, 2008.

ADDRESSES: You may submit comments, identified by RIN 0648-AW58 by any one of the following methods:

• Electronic Submissions: Submit all electronic public comments via the Federal eRulemaking Portal http://www.regulations.gov.

• Fax: 206-526-6736, Attn: Gretchen Arentzen

• Mail: D. Robert Lohn, Administrator, Northwest Region, NMFS, 7600 Sand Point Way NE, Seattle, WA 98115-0070, Attn: Gretchen Arentzen.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments. Attachments to electronic comments will be accepted in Microsoft Word, Excel, WordPerfect, or Adobe PDF file formats only.

FOR FURTHER INFORMATION CONTACT: Gretchen Arentzen (Northwest Region, NMFS), phone: 206-526-6147, fax: 206-526-6736 and e-mail gretchen.arentzen@noaa.gov.

SUPPLEMENTARY INFORMATION:

Electronic Access

This final rule is accessible via the Internet at the Office of the Federal Register's Website at http://www.gpoaccess.gov/fr/index.html. Background information and documents are available at the Pacific Fishery Management Council's website at http://www.pcouncil.org/.

Background

The Pacific Coast Groundfish FMP and its implementing regulations at title 50 in the Code of Federal Regulations (CFR), part 660, subpart G, regulate fishing for over 90 species of groundfish off the coasts of Washington, Oregon, and California. Groundfish specifications and management measures are developed by the Pacific Fishery Management Council (Council), and are implemented by NMFS. A proposed rule to implement the 2007-2008 specifications and management measures for the Pacific Coast groundfish fishery and Amendment 16-4 of the FMP was published on September 29, 2006 (71 FR 57764). The final rule to implement the 2007-2008 specifications and management measures for the Pacific Coast Groundfish Fishery was published on December 29, 2006 (71 FR 78638). These specifications and management measures were codified in the CFR (50 CFR part 660, subpart G). The final rule was subsequently amended on: March 20, 2007 (71 FR 13043); April 18, 2007 (72 FR 19390); July 5, 2007 (72 FR 36617); August 3, 2007 (72 FR 43193); September 18, 2007 (72 FR 53165); October 4, 2007 (72 FR 56664); December 4, 2007 (72 FR 68097); and December 18, 2007 (72 FR 71583).

Changes to current groundfish management measures implemented by this action were recommended by the Council, in consultation with Pacific Coast Treaty Indian Tribes and the States of Washington, Oregon, and California, at its March 10-14, 2008, meeting in Sacramento, California. The Council recommended adjustments to current groundfish management measures to respond to updated fishery information and other inseason management needs.

Limited Entry Non-Whiting Trawl Fishery Management Measures

At its March 2008 meeting, the Council received new data and analyses on the catch of groundfish in the limited entry trawl fishery. The Council's recommendations for revising 2008 trawl fishery management measures focused on modifying the RCA boundary lines and trip limits to move vessels away from areas where canary rockfish most commonly co-occur with more abundant groundfish stocks, and considered the resulting effects of the movement of the fleet on darkblotched rockfish.

According to the most recently available West Coast Groundfish Observer Program (WCGOP) data, released in late January, 2008, bycatch rates for canary rockfish using selective flatfish trawl gear north of 40°10.00' N. lat. were much higher in 2006 than had been anticipated. By applying these new bycatch rates to landings of target species in the existing fishery bycatch model, NMFS concluded that the 2006 canary rockfish OY had been exceeded by approximately 10 mt. While estimated 2007 total catch of canary rockfish has yet to be determined, higher than anticipated bycatch rates in the north by selective flatfish trawls would be expected to continue in 2008. Based on 2006 WCGOP data indicating higher canary rockfish bycatch rates using selective flatfish trawls north of 40°10.00' N. lat., NMFS believes that the canary rockfish OY could be exceeded in 2008 under status quo regulations. The 2008 regulatory measures were developed assuming a canary rockfish bycatch rate that now has been determined to be too low, which results in an underestimate in the predicted impacts to canary rockfish. In order to keep catch levels within the canary rockfish OY, inseason adjustments are necessary to constrain incidental canary rockfish catch in the limited entry non-whiting trawl fishery.

The Council considered several options available to reduce impacts on canary rockfish in the non-whiting limited entry trawl fishery north of 40°10.00' N. lat. closer to harvest levels initially projected for the fisheries during development of the 2008 management measures: (1) the modification of trawl cumulative limits; and (2) modifications of the trawl RCA boundaries using some of the management area boundaries and commonly used geographic coordinates, defined at 50 CFR 660.302 under “North-South management area”, to provide more area-specific management measures on portions of the coast with differential canary rockfish bycatch rates. Use of management area boundaries and commonly used geographic coordinates for more area-specific management measures were first implemented inseason on April 18, 2007 (72 FR 19390). For 2009-2010, the Council has recommended the development of other tools, such as more refined area closures, similar to the yelloweye rockfish RCAs, but concluded that implementing these types of closures would not be routine management measure changes under either the FMP at 6.2.D or Federal regulations at 50 CFR 660.370(c).

The Council considered several combinations of available management measures and looked at the projected impact of these measures on the resource and the fishery. In order to keep projected impacts of the non-whiting trawl fishery on canary rockfish within the 2008 OY, and to allow fishing opportunities in geographic areas with low canary rockfish bycatch, several modifications to the limited entry non-whiting trawl fishery regulations were recommended, including: (1) modification of the trawl RCA boundaries with continued use of latitudes of interest to have more area specific restrictions; (2) reduction in cumulative limits for some species using selective flatfish trawl gear; and (3) increasing opportunities for sablefish and shortspine thornyheads in areas seaward of the trawl RCA.

Rockfish Conservation Area Boundaries

In March 2007, the Council considered 2005 WCGOP data and the canary rockfish bycatch rates associated with portions of the coast and made fine scale spatial closures based on that analysis. Based on the 2005 WCGOP data, the areas of the coast with the highest canary rockfish bycatch rates were: the area shoreward of the RCA north of Cape Alava; the area shoreward of the RCA between Leadbetter Point and the Washington/Oregon border; and the area shoreward of the RCA between Cape Arago and Humbug Mountain.

Based on analysis of 2006 WCGOP data, in relation to 2005 WCGOP data, canary rockfish bycatch rates differ annually in each area of the coast. Based on the 2006 WCGOP data, the areas of the coast with the highest canary rockfish bycatch rates were distributed slightly differently than in 2005: the area shoreward of the RCA between Cape Alava (48°10.00' N. lat.) and Leadbetter Point (46°38.17' N. lat.), and the area shoreward of the RCA between Humbug Mountain (42°40.50' N. lat.) and 40°10.00' N. lat. Therefore, a slightly broader scale approach to the area specific management measures was considered in March 2008, compared to March 2007.

Incorporating the 2006 WCGOP data using a weighted average approach, as done in previous years, resulted in the following areas of the coast with the highest bycatch rate of canary rockfish relative to target species taken in the non-whiting trawl fishery: the area shoreward of the RCA north of the Columbia River (46°16.00' N. lat.); and the area shoreward of the RCA between Cape Arago (43°20.83' N. lat.) and 40°10.00' N. lat.

The Council determined that, in order to constrain the incidental catch of canary rockfish and to prevent exceeding the 2008 canary rockfish OY, portions of the limited entry trawl RCA north of 40°10.00' N. lat. should be expanded shoreward, so that the RCA's shoreward boundary is no deeper than a line approximating the 60-fm (110-m) contour in the area north of the Washington/Oregon border and in the area between Cape Arago and 40°10.00' N. lat. This RCA expansion is expected to have a dual effect of eliminating fishing opportunity in areas with trawl efforts exhibiting higher canary rockfish bycatch rates, as well as shifting fishing effort to areas exhibiting relatively lower canary rockfish bycatch rates. The RCA expansion is based on refined modification of the shoreward RCA boundaries in areas north of 40°10.00' N. lat. and will restrict areas with the highest bycatch rates, as identified from a weighted average that incorporates 2005 and 2006 WCGOP data. The Council's Groundfish Management Team (GMT) analyzed the effect of relatively greater restrictions within these two areas and, based on that analysis, recommended expanding the shoreward boundary of the trawl RCA to a line approximating the 60-fm (110-m) contour during the summer in the area between Cape Alava and the Oregon/Washington border and between Humbug Mountain and 40°10.00' N. lat. The Council also considered various alternatives that kept the shoreward boundary of the RCA at a line approximating the 75-fm (137-m) depth contour for portions of the year in the following areas of the coast: between Leadbetter Point and the Oregon/Washington border; and between Humbug Mountain and 40°10.00' N. lat. to reduce the disproportionate impact these area restrictions would have on vessels based in various ports along the Washington and Oregon coasts. However, the necessary reductions in cumulative trip limits required to keep these areas open shoreward of a line approximating the 75-fm (137-m) depth contour in summer months would make trawling with selective flatfish gear not economically viable for many participants in the non-whiting trawl fishery.

In order to reduce economic impacts on vessels that formerly operated in the nearshore fishing areas, the Council supported liberalization, where possible, of the seaward boundary of the RCA in order to provide open fishing areas of relatively low canary bycatch to accommodate a shift in fishing effort from nearshore to offshore waters. The benefits of shifting effort offshore are twofold: since the highest rates of canary bycatch occur in the areas shoreward of the RCA, shifting effort seaward of the RCA further reduces the effort in the nearshore areas that remain open, thus reducing the amount of canary rockfish caught in those areas; and some displaced vessels whose effort was concentrated in the areas that are restricted may be able to shift their effort seaward of the RCA and remain in the fishery.

Trawl fishing opportunities seaward of the trawl RCA are primarily constrained by measures intended to minimize the incidental catch of darkblotched rockfish. Data from the NMFS trawl survey, logbook data, and anecdotal information from the trawl industry shows that various target species and darkblotched rockfish are found in shallower depths in the north and move deeper toward the south. The Council considered available data, which indicated that darkblotched rockfish have a relatively low bycatch rate outside of a line approximating the 150-fm (274-m) depth contour between the Oregon/Washington border and Cape Falcon (45°46.00' N. lat.) a relatively high bycatch rate between Leadbetter Point and the Oregon/Washington border. The 2008 darkblotched rockfish OY is 330-mt, 40-mt higher than in 2007, as the stock increases in biomass and approaches the rebuilding plan target year of 2011. The Council considered changes to the seaward boundary of the RCA within the context of inducing a shift in effort to areas with lower canary rockfish impacts, while maintaining protections for darkblotched rockfish to meet requirements in the rebuilding plan. Dividing the seaward boundary of the RCA allows more refined area management in response to differential darkblotched bycatch rates based on latitudes of interest and the depth-based shift in abundance, from north to south, of darkblotched rockfish and target species. Minor adjustments to the seaward boundary of the RCA were considered to shift effort seaward of the RCA by provide targeting opportunity while still protecting darkblotched rockfish.

Based on the information and analysis described above, the Council recommended and NMFS is implementing the following changes to the trawl RCA north of 40°10.00' N. lat.: between Cape Alava and the Oregon/Washington border, the shoreward boundary is shifted shoreward to a line approximating the 60-fm (110-m) depth contour from September 1 through October 31; between Leadbetter Point and the Washington/Oregon border, the seaward boundary is shifted seaward to a line approximating the 200-fm (366-m) depth contour from May 1 through June 30; between the Washington/Oregon border and Cape Falcon, the seaward boundary is shifted seaward to a line approximating the 150-fm (274-m) depth contour from May 1 through August 31; and between Humbug Mountain and 40°10.00' N. lat., the shoreward boundary is shifted shoreward to a line approximating the 60-fm (110-m) depth contour from May 1 through October 31.

Limited Entry Non-Whiting Trawl Trip Limits

In addition to area closures, the Council determined that cumulative limits in the limited entry trawl fishery north of 40°10.00' N. lat. should be modified to reduce effort and catch of target species with selective flatfish trawl gear, and increase effort and catch of some target species with large and small footrope trawl gear. These modifications were designed to induce a shift in effort seaward of the RCA in order to reduce impacts on co-occurring canary rockfish and prevent exceeding the 2008 canary rockfish OY, and to relieve some of the restrictions that were implemented in 2007 to prevent exceeding the lower 2007 darkblotched rockfish OY.

The Council considered various combinations of cumulative limit adjustments paired with RCA modifications to reduce impacts to canary rockfish. As with the RCA boundary revisions, the Council's GMT analyzed revisions to trip limits intended to shift fishing effort away from areas where canary rockfish are more commonly taken as bycatch. The GMT recommended that the Council consider reducing Dover sole, other flatfish, and petrale sole opportunities for vessels using selective flatfish trawl gear, in order to provide for a disincentive to fish in areas where canary rockfish are found and to shift effort away from areas with a relatively high canary rockfish bycatch rate.

Based on these analyses and recommendations, the Council recommended and NMFS is implementing a decrease in the limited entry selective flatfish trawl fishery cumulative limits north of 40°10.00' N. lat. beginning May 1: for Dover sole from “50,000 lb per two months” to “40,000 lb per two months” through August 31; for other flatfish from “70,000 lb per two months” to “50,000 lb per two months” through December 31; and for petrale sole, from “22,000 lb per two months” to “18,000 lb per two months” through October 31. If a vessel has both selective flatfish gear and large or small footrope gear on board during a cumulative limit period (either simultaneously or successively), the most restrictive cumulative limit for any gear on board during the cumulative limit period applies for the entire cumulative limit period. Therefore the trip limits for multiple trawl gear are modified for consistency with adjustments in trip limits for the above listed species and gears.

In addition to liberalizing portions of the seaward boundary of the trawl RCA north of 40°10.00' N. lat., the Council considered increasing cumulative limits for: DTS species in areas seaward of the RCA in order to shift more fishing effort to offshore waters; and for minor slope rockfish south of 40°10.00' N. lat. North of 40°10.00' N. lat., the Council considered increasing limits for sablefish and shortspine thornyheads taken with large and small footrope trawl gears, which are only allowed when fishing seaward of the trawl RCA, to create incentives to fish in areas with lower canary rockfish bycatch rates, and to provide additional fishing opportunity under a less constraining 2008 darkblotched rockfish OY of 330 mt. South of 40°10.00' N. lat., the Council considered increasing limits for minor slope rockfish, sablefish and shortspine thornyheads to provide additional fishing opportunity under a less constraining 2008 darkblotched rockfish OY of 330 mt and to increase effort and catch of these target species seaward of the RCA. The Council determined that increasing trip limits for minor slope rockfish, sablefish, and shortspine thornyheads would help prevent exceeding the 2008 canary rockfish OY, and reduce economic impacts, for the following reasons: (1) the shift in effort to areas with lower canary rockfish bycatch rates will reduce total coastwide incidental catch of canary rockfish; and (2) it may reduce the economic impacts on vessels displaced by nearshore fishery restrictions by providing fishing opportunity while also constraining incidental catch of canary rockfish.

Changes to management measures to constrain the catch of canary rockfish will also affect the incidental catch of darkblotched rockfish and Pacific ocean perch (POP). Increasing incentives to fish seaward of the trawl RCA to reduce impacts on canary rockfish will increase effort in an area of known darkblotched rockfish abundance and the incidental catch of darkblotched rockfish is likely to increase compared to predicted impacts under current management measures. POP is not considered to be a constraining species in the limited entry trawl fishery; the inseason adjustments to management measures implemented by this action are anticipated to keep POP total catch well within its 2008 OY of 150 mt. The Council focused its discussions of various continental slope actions to allow access to the increased 2008 darkblotched rockfish OY, while keeping projected total mortality within the 2008 darkblotched rockfish OY. The Council's GMT analyzed the effects of changes in RCA boundaries, cumulative limit opportunities, and fishing effort on the incidental catch of darkblotched rockfish, and the combined effects of these actions are predicted to result in a total 2008 catch of darkblotched rockfish that is lower than the 2008 OY. Catch of darkblotched rockfish will be monitored and action can be taken inseason if necessary to modify the trawl RCA and cumulative limits to keep total catch within the 2008 darkblotched rockfish OY.

Based on these analyses and recommendations, the Council recommended and NMFS is implementing an increase in the limited entry trawl fishery cumulative limits taken with large and small footrope trawl gears coastwide beginning May 1: sablefish limits are modified from “17,000 lb per two months” to “19,000 lb per two months” through October 31, and shortspine thornyheads are modified from “12,000 lb per two months” to “25,000 lb per two months” through December 31. The Council also recommended and NMFS is implementing an increase in the limited entry trawl fishery cumulative limits for minor slope and darkblotched rockfish between 40°10.00' N. lat. and 38° N. lat., from “10,000 lb per two months” to “15,000 lb per two months” through October 31.

Limed Entry Non-Tribal Whiting Trawl Fishery

The availability of overfished species as incidental catch, particularly canary rockfish, darkblotched rockfish, and widow rockfish, may prevent the industry from harvesting the entire Pacific whiting (whiting) OY during 2008. To allow the industry to have the opportunity to harvest the higher whiting OY while keeping incidental catch within the rebuilding OYs for the incidental species, the Council recommended bycatch limits for the overfished species most commonly taken as incidental catch in the non-tribal whiting fishery. With bycatch limits, the industry has the opportunity to harvest a larger amount of whiting, if they can do so while keeping the incidental catch of specific overfished species within adopted bycatch limits. Regulations provide for the automatic closure of the commercial (non-tribal) portion of the whiting fishery upon attainment of a bycatch limit.

In recent years, the most constraining overfished species for the whiting fishery have been darkblotched, canary and widow rockfish. Current regulations at 50 CFR 660.373 (b)(4) contained the following bycatch limits for the commercial sectors (non-tribal) of the whiting fishery: 4.7 mt for canary, 275 mt for widow, and 25 mt for darkblotched rockfish.

At the March 2008 Council meeting, the GMT examined potential bycatch of overfished species in relation to: performance of the 2007 non-tribal whiting fishery; other inseason management considerations; and the 2008 whiting OY. In 2007, the whiting primary season closed for the catcher processor, mothership and shore-based sectors on July 26, 2007 (72 FR 46176) when estimates indicated that the bycatch limit for widow rockfish had been reached. The 2007 whiting OY was 10 percent lower than the OY in 2006, however, the widow rockfish bycatch limit was raised in 2007 to accommodate an increasing widow rockfish biomass. Widow rockfish are currently under a rebuilding plan, with a projected rebuilding year of 2015. As the widow rockfish biomass increases, encounter rates in the whiting trawl fishery over recent years have also increased. In 2007, the non-tribal whiting fishery was closed upon attainment of the widow rockfish bycatch limit. Subsequently, the limit was increased from 220 mt to 275 mt. Final catch of widow rockfish by the 2007 non-tribal whiting fishery was 235 mt.

With a recommended 2008 U.S. whiting OY of 269,545 mt, and in the absence of any further restrictions, the bycatch of canary rockfish was projected to be approximately 4.0 mt, the bycatch of widow rockfish was projected to be approximately 364.4 mt, and the bycatch of darkblotched rockfish was projected to be approximately 15.4 mt. If a widow bycatch limit was set high enough to accommodate these projected impacts, and the limit was reached, the total impacts on widow rockfish combined with all other fisheries were projected to exceed the 2008 widow rockfish OY. The GMT explored mechanisms to reduce impacts on widow rockfish, so that bycatch limits for all species could be set at a level that could more likely accommodate the 2008 non-tribal whiting OY. Projected impacts on darkblotched rockfish, after implementation of all the RCA and cumulative limit adjustments in this final rule, was 42 mt below the 2008 darkblotched rockfish OY. After conversations with industry about mechanisms to induce an effort shift away from widow rockfish, the GMT explored options that would raise the darkblotched rockfish bycatch limit, to increase flexibility in behavior of the non-tribal whiting fleet, so that they can move to offshore areas if they encounter widow rockfish early in the season. The GMT estimated that if the darkblotched rockfish bycatch limit were raised from 25 mt, to approximately 40 mt, the projected impacts on widow rockfish would decrease to approximately 296 mt. After considering the projected catch of overfished species in all other fishing and research activities, the Council recommended that the canary rockfish bycatch limits for the non-tribal whiting fishery remain at 4.7 mt, which is the same limit that was available during the 2006 and 2007 primary whiting season. The Council recommended maintaining a widow rockfish bycatch limit of 275 mt, the same bycatch limit that was in effect at the end of the 2007 season. To better accommodate current incidental catch projections for the non-tribal whiting fishery, and to induce a shift in effort to areas with lower widow rockfish abundance, the Council recommended the darkblotched rockfish bycatch limit be raised to 40 mt. With this increase, the 2008 estimated total catch of darkblotched rockfish is still predicted to be well below the 2008 darkblotched rockfish OY of 330 mt.

Based on these analyses and recommendations, the Council recommended and NMFS is implementing an increase in the darkblotched rockfish bycatch limit, in the non-tribal whiting fishery, to 40 mt.

Open Access Sablefish Daily Trip Limit Fishery

The Council discussed reducing the sablefish daily trip limit (DTL) fishery's cumulative limit north of 36° N. lat. in anticipation of a large influx of fishing effort into the sablefish DTL fishery as a result of potential salmon fishery restrictions and closures. The salmon fishery in 2008 is likely to be severely constrained off the coasts of Oregon and California. Fishery managers have received a number of inquiries from salmon fishers who are interested in moving into the open access sablefish DTL fishery.

In 2006, restrictions in the salmon fishery drove an influx of fishers into the open access sablefish DTL fishery and cumulative limits were reduced on May 1, 2006, (71 FR 24601) to provide a longer season. Catches of sablefish were higher than projected throughout the year, and the sablefish DTL fishery was closed north of 36° N. lat. on October 31, 2006 (71 FR 58289).

Only a minimal amount of hook-and-line or pot fishing gear is needed to participate in the sablefish DTL fishery, increasing the likelihood of fishers moving into this fishery. Based on the proposed options for salmon fishery regulations considered by the Council at their March meeting, the 2008 salmon season will be more restricted than it was in 2006. Under the current limits, a large increase in the number of open access sablefish DTL fishery participants could cause an early attainment of the open access sablefish allocation. If the allocation were reached, the fishery would need to be closed, as it was in October 2006.

Though the open access sablefish DTL fishery could provide fishing opportunity for displaced salmon fishers, it would likely have a large effect on fishers who have historically participated in the sablefish fishery. Reducing the open access cumulative limit for sablefish on May 1, 2008, is predicted to result in a longer season, which would benefit fishers who have historically participated in the year-round fishery.

The Council considered various reductions to the current open access sablefish DTL fishery's daily, weekly, and two month limits to sustain the open access sablefish DTL fishery until the end of year. The Council considered industry comments that further reductions in the daily limit would jeopardize the viability of the fishery, due to rising fuel costs, and the GMT analysis indicated that reductions in weekly limits would not impact overall sablefish catch. The Council recommended that the daily and weekly trip limits for sablefish remain the same and that the cumulative limits for sablefish be reduced to 2,200 lb (998 kg) per two months. The Pacific Council will analyze effort shifts into the open access sablefish DTL fishery at their June 8-13, 2008, meeting when new data from the fishery are available.

Therefore, the Pacific Council recommended and NMFS is implementing a reduction in the open access cumulative trip limits for sablefish north of 36° N. lat. from “300 lb (136 kg) per day, or one landing per week of up to 800 lb (363 kg), not to exceed 2,400 lb (1,089 kg) per two months” to “300 lb (136 kg) per day, or one landing per week of up to 800 lb (363 kg), not to exceed 2,200 lb (998 kg) per two months”, beginning May 1.

California Recreational Fishery

In the California recreational groundfish fishery, the California Department of Fish and Game (CDFG) manages yelloweye, canary, and minor nearshore rockfish under state harvest limits. State harvest limits apply to landings by recreational ocean boats, shore catch, and discards. In September 2007, California's recreational catch estimates and projections based on recent catch patterns indicated that the California State harvest limit for yelloweye and canary rockfish, which are 2.1 mt, and 9 mt, respectively, were projected to be exceeded. California projected that, without taking inseason action, the total 2007 mortality from the California fishery, combined with all other coastwide recreational and commercial fishery impacts, would exceed the 2007 yelloweye rockfish OY. To reduce recreational fishery impacts on yelloweye and canary rockfish, California closed the recreational boat-based fisheries north of 37°11' N. lat. for all Federal groundfish species subject to bag limits in that area, effective October 1, 2007. California projected that the October 1, 2007, closure would reduce the total mortality from the California recreational fishery to: 7.2 mt yelloweye rockfish; and 10.1 mt canary rockfish. CDFG presented final catch estimates from the 2007 recreational fishery to the Council at their March 2008 meeting. The final catch estimates were: 8.0 mt yelloweye rockfish; and 10.9 mt canary rockfish; which exceeded the 2007 harvest guidelines for these species.

CDFG analyzed several suites of management measures and developed a proposal to reduce the projected catch of these species to a level below the California harvest guidelines in the 2008 recreational groundfish season: 2.1 mt yelloweye rockfish; and 9 mt canary rockfish. To improve inseason tracking of catches in the California recreational fishery, CDFG fishery managers will be working with California Recreational Fishery Survey samplers to monitor the rate of catch accrual of yelloweye and canary rockfish, inform enforcement of ports with landings of prohibited species, and identify ports at which additional outreach and education efforts would be beneficial. CDFG will also be implementing five recreational Yelloweye Rockfish Conservation Areas in State waters, between Pigeon Point (37°11' N. lat.) and the Oregon/California border (42° N. lat.), within which the recreational fishery for rockfish, cabezon, greenlings, and lingcod, will be closed to reduce projected impacts on yelloweye rockfish. CDFG will also be implementing a 20-fm (37-m) depth restriction in the recreational fishery between Pigeon Point and the Oregon/Washington border (the Northern and North-Central Management Areas). The 20-fm (37-m) depth restriction lies primarily within State waters, however in some areas of the coast it extends into Federal water. CDFG requested that the Council adopt use of the 20-fm (37-m) depth restriction in Federal regulations, instead of the 30-fm (55-m) depth restriction currently in Federal regulations, to conform to State regulations. Projections indicate that this suite of management measures will reduce recreational fishery impacts on yelloweye rockfish and canary rockfish, and keep the mortality of yelloweye and canary rockfish within the 2008 California harvest guidelines. Shore fisheries, including shore-based diving, angling and spear fishing, were not affected by this closure, nor were fisheries not subject to bag limits.

Therefore, in order to conform recreational management measures for Federal waters (3-200 nm) to management measures for California state waters (0-3 nm), the Pacific Council recommended and NMFS is implementing a 20-fm (37-m) depth restriction in the California recreational fishery between Pigeon Point and the Oregon/Washington border (the Northern and North-Central Management Areas) beginning May 1, 2008.

Classification

These actions are taken under the authority of 50 CFR 660.370 (c) and are exempt from review under Executive Order 12866.

These actions are taken under the authority of the Magnuson-Stevens Fishery Conservation and Management Act (Magnuson-Stevens Act), and are in accordance with 50 CFR part 660, the regulations implementing the FMP. These actions are based on the most recent data available. The aggregate data upon which these actions are based are available for public inspection at the Office of the Administrator, Northwest Region, NMFS, (see ADDRESSES) during business hours.

For the following reasons, NMFS finds good cause to waive prior public notice and comment on the revisions to the 2008 groundfish management measures under 5 U.S.C. 553(b)(B) because notice and comment would be impracticable and contrary to the public interest. Also for the same reasons, NMFS finds good cause to waive part of the 30-day delay in effectiveness pursuant to 5 U.S.C. 553(d)(3), so that this final rule may become effective May 1, 2008.

The recently available data upon which these recommendations were based was provided to the Council, and the Council made its recommendations, at its March 10-14, 2008, meeting in Sacramento, CA. For the actions to be implemented in this final rule, affording the time necessary for prior notice and opportunity for public comment would prevent the Agency from managing fisheries using the best available science by approaching without exceeding the OYs for federally managed species. The adjustments to management measures in this document affect: commercial trawl fisheries off Washington, Oregon, and California; bycatch limits in the commercial non-tribal whiting trawl fishery; and recreational fisheries off California. These adjustments to management measures must be implemented by May 1, 2008, to: prevent exceeding the 2008 OYs for canary and yelloweye rockfish; prevent premature closure of fisheries; and eliminate confusion for the public and to improve enforcement by ensuring that Federal and state recreational regulations conform to each other. Changes to the cumulative limits in the limited entry trawl fishery and to the trawl RCA are needed to reduce the projected bycatch of canary rockfish, a groundfish species that is currently subject to rebuilding requirements. The projected bycatch of canary rockfish must be reduced in order to keep coastwide fisheries from exceeding that species's rebuilding OY. Changes to the trawl RCA and changes to trip limits in the limited entry trawl fishery for Dover sole, other flatfish, and petrale sole to reduce the bycatch of canary rockfish must be implemented in a timely manner by May 1, 2008, so that the total catch of canary rockfish stays within its 2008 OY, as defined in the rebuilding plan for this species. Changes to cumulative limits in the limited entry trawl fishery for sablefish, shortspine thornyheads, and slope rockfish must be implemented in a timely manner by May 1, 2008, to: relieve a restriction and to allow fisheries to approach, but not exceed, the 2008 OY for darkblotched rockfish; and to induce a shift in effort to offshore areas where incidental catch of canary rockfish is lower, so that the total catch of canary rockfish stays within its 2008 OY. A change to the non-tribal whiting fishery bycatch limit for darkblotched rockfish must be implemented as close as possible to the start of the California whiting fishery, on April 1, 2008. Ensuring that the increase in the darkblotched rockfish bycatch limit is in place by the season start date provides an opportunity for participants in this fishery to catch the available whiting quota without reaching or exceeding the bycatch limit of widow rockfish or its OY, prematurely closing the fishery.

Changes to the California recreational groundfish RCA must be implemented in a timely manner by May 1, 2008, in order to eliminate confusion for the public, and to improve enforcement by ensuring that Federal and state recreational regulations conform to each other.

These revisions are needed to protect overfished groundfish species and to keep the harvest of other groundfish species within the harvest levels projected for 2008, while allowing fishermen access to healthy stocks. Without these measures in place, the fisheries could risk exceeding harvest levels early in the year, causing early and unanticipated fishery closures and economic harm to fishing communities. Delaying these changes would keep management measures in place that are not based on the best available data and which could lead to early closures of the fishery if harvest of groundfish exceeds levels projected for 2008. Such delay would impair achievement of one of the Pacific Coast Groundfish FMP objectives of providing for year-round harvest opportunities or extending fishing opportunities as long as practicable during the fishing year. In addition, it is also in the public interest to implement the recreational measures in this document as soon as possible to improve enforcement and eliminate confusion for the public by removing differences between different regulations that affect the same waters and fisheries.

List of Subjects in 50 CFR Part 660

Fishing, Fisheries, and Indian Fisheries.

Dated: April 14, 2008.
Alan D. Risenhoover,
Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq.

2. In § 660.373, paragraph (b)(4) is revised to read as follows:

§ 660.373 Pacific whiting (whiting) fishery management.

* * * * *

(b) * * *

(4) Bycatch limits in the whiting fishery. The bycatch limits for the whiting fishery may be used inseason to close a sector or sectors of the whiting fishery to achieve the rebuilding of an overfished or depleted stock, under routine management measure authority at § 660.370(c)(1)(ii). These limits are routine management measures under § 660.370(c) and, as such, may be adjusted inseason or may have new species added to the list of those with bycatch limits. The whiting fishery bycatch limits for the sectors identified in § 660.323(a) are: 4.7 mt of canary rockfish; 275 mt of widow rockfish; and 40 mt of darkblotched rockfish.

* * * * *

3. In § 660.384, paragraph (c)(3)(i)(A)(1) and (2) are revised to read as follows:

§ 660.384 Recreational fishery management measures.

* * * * *

(c) * * *

(3) * * *

(i) * * *

(A) * * *

(1) Between 42° N. lat. (California/Oregon border) and 40°10.00′ N. lat. (North Region), recreational fishing for all groundfish (except “other flatfish” as specified in paragraph (c)(3)(iv) of this section) is prohibited seaward of the 20 fm (37 m) depth contour along the mainland coast and along islands and offshore seamounts from May 1 through December 31; and is closed entirely from January 1 through April 30 (i.e., prohibited seaward of the shoreline).

(2) Between 40°10' N. lat. and 37°11' N. lat. (North Central Region), recreational fishing for all groundfish (except “other flatfish” as specified in paragraph (c)(3)(iv) of this section) is prohibited seaward of the 20-fm (37-m) depth contour along the mainland coast and along islands and offshore seamounts from June 1 through November 30; and is closed entirely from January 1 through May 31 and from December 1 31 (i.e., prohibited seaward of the shoreline). Closures around the Farallon Islands (see paragraph (c)(3)(i)(C) of this section) and Cordell Banks (see paragraph (c)(3)(i)(D) of this section) also apply in this area.

* * * * *

4. Tables 3 (North), 3 (South), 5 (North), and 5 (South) to part 660 subpart G are revised to read as follows:

BILLING CODE 3510-22-S

[FR Doc. E8-8405 Filed 4-17-08; 8:45 am]

BILLING CODE 3510-22-C